DEPARTMENT OF HEALTH AND HUMAN SERVICES

National Institutes of Health

National Institute of Environmental Health Sciences Notice of Meetings

Pursuant to section 10(a) of the Federal Advisory Committee Act, as amended (5 U.S.C. App.), notice is hereby given of meetings of the Interagency Breast Cancer and Environmental Research Coordinating Committee.

The meetings will be open to the public, with attendance limited to space available. Individuals who plan to attend and need special assistance, such as sign language interpretation or other reasonable accommodations, should notify the Contact Person listed below in advance of the meeting.

Name of Committee: Interagency Breast Cancer and Environmental Research Coordinating Committee.

Date: October 20, 2011.

Time: 1 p.m. to 3 p.m.

Agenda: The purpose of the meeting is to continue the work of the State of the Science Subcommittee as it addresses a broad set of objectives related to the overall mandate of the IBCERC including: summarizing the state of the literature (both animal and human research) and identifying research gaps. The meeting agenda will be available via http://www.niehs.nih.gov/about/orgstructure/boards/ibcercc/.

Place: Conference Call: This meeting will be conducted remotely, via conference call. To attend the meeting, please RSVP via e-mail to ibcercc@niehs.nih.gov at least 10 days in advance and instructions for joining the meeting will be provided.

Contact Person: Gwen Collman, PhD, Director, Division of Extramural Research and Training, National Institute of Environmental Health Sciences, 615 Davis Dr., KEY615/3112, Research Triangle Park, NC 27709, (919) 541-4980, collman@niehs.nih.gov.

Name of Committee: Interagency Breast Cancer and Environmental Research Coordinating Committee.

Date: November 10, 2011.

Time: 3 p.m. to 5 p.m.

Agenda: The purpose of the meeting is to continue the work of the State of the Science Subcommittee as it addresses a broad set of objectives related to the overall mandate of the IBCERC including: summarizing the state of the literature (both animal and human research) and identifying research gaps. The meeting agenda will be available via http://www.niehs.nih.gov/about/orgstructure/boards/ibcercc/.

Place: Conference Call: This meeting will be conducted remotely, via conference call. To attend the meeting, please RSVP via e-mail to ibcercc@niehs.nih.gov at least 10 days in advance and instructions for joining the meeting will be provided.

Contact Person: Gwen Collman, PhD, Director, Division of Extramural Research and Training, National Institute of Environmental Health Sciences, 615 Davis Dr., KEY615/3112, Research Triangle Park, NC 27709, (919) 541-4980, collman@niehs.nih.gov.

Name of Committee: Interagency Breast Cancer and Environmental Research Coordinating Committee.

Date: November 29, 2011.

Time: 1 p.m. to 3 p.m.

Agenda: The purpose of the meeting is to continue the work of the State of the Science Subcommittee as it addresses a broad set of objectives related to the overall mandate of the IBCERC including: summarizing the state of the literature (both animal and human research) and identifying research gaps. The meeting agenda will be available via http://www.niehs.nih.gov/about/orgstructure/boards/ibcercc/.

Place: Conference Call: This meeting will be conducted remotely, via conference call. To attend the meeting, please RSVP via e-mail to ibcercc@niehs.nih.gov at least 10 days in advance and instructions for joining the meeting will be provided.

Contact Person: Gwen Collman, PhD, Director, Division of Extramural Research and Training, National Institute of Environmental Health Sciences, 615 Davis Dr., KEY615/3112, Research Triangle Park, NC 27709, (919) 541-4980, collman@niehs.nih.gov.

Any interested person may file written comments with the committee by forwarding the statement to the Contact Person listed on this notice. The statement should include the name, address, telephone number and when applicable, the business or professional affiliation of the interested person.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: September 15, 2011.
Jennifer S. Spaeth,
Director, Office of Federal Advisory Committee Policy.

[FR Doc. 2011-24501 Filed 9-22-11; 8:45 am]

BILLING CODE 4140-01-P